DEPARTMENT OF LABOR

Employment and Training Administration

[TA-W-58,972]

Elite Furniture MFG, High Point, North Carolina; Notice of Termination of Investigation

Pursuant to Section 221 of the Trade Act of 1974, as amended, an investigation was initiated on March 7, 2006, in response to a petition filed by a company official on behalf of workers at Elite Furniture Mfg, High Point, North Carolina.

The petitioner has requested that the petition be withdrawn. Consequently, the investigation has been terminated.

Signed at Washington, DC this 31st day of March 2006
Linda G. Poole,
Certifying Officer, Division of Trade Adjustment Assistance.

[FR Doc. E6-5416 Filed 4-11-06; 8:45 am]

BILLING CODE 4510-30-P